DEPARTMENT OF TRANSPORTATION

Federal Aviation Administration

14 CFR Part 21

[Docket No. FAA-2022-1548]

Airworthiness Criteria: Special Class Airworthiness Criteria for the Archer Aviation, Inc. Model M001 Powered-Lift

Correction

In rule document 2024-11192, beginning on page 45944, make the following correction: On page 45976, in the second column, on the fifteenth line from the bottom of the page, the heading “AM1.281 Propeller Critical Parts” should read “AM1.2816 Propeller Critical Parts”.

[FR Doc. C1-2024-11192 Filed 5-30-24; 8:45 am]

BILLING CODE 0099-10-D